DEPARTMENT OF ENERGY

Agency Information Collection Revision

AGENCY: U.S. Department of Energy.

ACTION: Submission for Office of Management and Budget (OMB) review: comment request.

SUMMARY: The Department of Energy (DOE) has submitted request to revise an information collection request to the OMB under the provisions of the Paperwork Reduction Act of 1995 in connection with the issuance of an interim final rule. The information collection requests a revision the DOE Loan Guarantees for Energy Projects, OMB Control Number 1910-5134.

DATES: Comments regarding this collection must be received on or before July 3, 2023. If you anticipate that you will be submitting comments, but find it difficult to do so within the period of time allowed by this notice, please advise the OMB Desk Officer of your intention to make a submission as soon as possible. The Desk Officer may be telephoned at (202) 881-8585.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection instrument and instructions should be directed to Mr. Steven Westhoff, Attorney-Adviser, Loan Programs Office, email: LPO.IFR@hq.doe.gov, or phone: (240) 220-4994. The collection instruments can be viewed at: https://www.energy.gov/lpo/title-17-clean-energy-financing (Title 17 Program Guidance); and https://www.energy.gov/lpo/articles/tribal-energy-loan-guarantee-program-solicitation-current (TELGP solicitation).

SUPPLEMENTARY INFORMATION: This information collection request contains: (1) OMB No.: 1910-5134; (2) Information Collection Request Title: DOE Loan Guarantees for Energy Projects; (3) Type of Request: Revision; (4) Purpose: This information collection request revision is submitted in conjunction with the issuance of an interim final rule “Loan Guarantees for Clean Energy Projects” at 10 CFR part 609. The revision adds the “Program Guidance for Title 17 Clean Energy Financing Program” as a collection instrument under the control number. The revision also explains the public reporting burden associated with the information collection under the Program Guidance for Title 17 Clean Energy Financing Program; (5) Annual Estimated Number of Respondents: 92; (6) Annual Estimated Number of Total Responses: 92; (7) Annual Estimated Number of Burden Hours: 13,478; (8) Annual Estimated Reporting and Recordkeeping Cost Burden: $2,544,421.

Statutory Authority: Title XVII and TELGP authorize the collection of information.

Signing Authority

This document of the Department of Energy was signed on May 26, 2023, by Jigar Shah, Director, Loan Programs Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on May 30, 2023.
Treena V. Garrett,
Federal Register Liaison Officer, U.S. Department of Energy.

[FR Doc. 2023-11746 Filed 6-1-23; 8:45 am]

BILLING CODE 6450-01-P